DEPARTMENT OF ENERGY

Federal Energy Regulatory Commission

Combined Notice of Filings #1

Docket Numbers: EC18-80-000.

Applicants: Bayonne Plant Holding, L.L.C.

Description: Application of Bayonne Plant Holding, L.L.C. for Approval Under Section 203 of the Federal Power Act and Request for Expedited Action.

Filed Date: 4/3/18.

Accession Number: 20180403-5206.

Comments Due: 5 p.m. ET 4/24/18.

Docket Numbers: EC18-81-000.

Applicants: Allegheny Ridge Wind Farm, LLC, Aragonne Wind LLC, Blue Canyon Windpower LLC, Buena Vista Energy, LLC, Caprock Wind LLC, Cedar Creek Wind Energy, LLC, Crescent Ridge LLC, Goshen Phase II LLC, GSG, LLC, Kumeyaay Wind LLC, Mendota Hills LLC, Rockland Wind Farm LLC, Wolverine Creek Goshen Interconnection LLC, Commodore US Holdings Corporation.

Description: Application for Authorization for Disposition of Jurisdictional Facilities and Request for Expedited Action of Allegheny Ridge Wind Farm, LLC, et. al.

Filed Date: 4/3/18.

Accession Number: 20180403-5208.

Comments Due: 5 p.m. ET 4/24/18.

Take notice that the Commission received the following electric rate filings:

Docket Numbers: ER10-2633-034; ER10-2570-034; ER10-2717-034; ER10-3140-033; ER13-55-023; ER10-3125-012; ER10-3102-012; ER10-3100-012; ER10-3107-012; ER10-3109-012; ER15-1447-004.

Applicants: Birchwood Power Partners, L.P., Shady Hills Power Company, L.L.C., EFS Parlin Holdings, LLC, Inland Empire Energy Center, LLC, Homer City Generation, L.P., AL Sandersville, LLC, Effingham County Power, LLC, MPC Generating, LLC, Walton County Power, LLC, Washington County Power, LLC, Mid-Georgia Cogen L.P.

Description: Notice of Non-Material Change in Status of the GE MBR Affiliates.

Filed Date: 4/3/18.

Accession Number: 20180403-5214.

Comments Due: 5 p.m. ET 4/24/18.

Docket Numbers: ER18-573-001.

Applicants: Montpelier Generating Station, LLC.

Description: Compliance filing: Reactive Service Rate Schedules Compliance Filing to be effective 3/27/2018.

Filed Date: 4/4/18.

Accession Number: 20180404-5088.

Comments Due: 5 p.m. ET 4/25/18.

Docket Numbers: ER18-574-001.

Applicants: Monument Generating Station, LLC.

Description: Compliance filing: Reactive Service Rate Schedules Compliance Filing to be effective 3/27/2018.

Filed Date: 4/4/18.

Accession Number: 20180404-5136.

Comments Due: 5 p.m. ET 4/25/18.

Docket Numbers: ER18-575-001.

Applicants: O.H. Hutchings CT, LLC.

Description: Compliance filing: Reactive Service Rate Schedules Compliance Filing to be effective 3/27/2018.

Filed Date: 4/4/18.

Accession Number: 20180404-5139.

Comments Due: 5 p.m. ET 4/25/18.

Docket Numbers: ER18-576-001.

Applicants: Sidney, LLC.

Description: Compliance filing: Reactive Service Rate Schedules Compliance Filing to be effective 3/27/2018.

Filed Date: 4/4/18.

Accession Number: 20180404-5140.

Comments Due: 5 p.m. ET 4/25/18.

Docket Numbers: ER18-577-001.

Applicants: Tait Electric Generating Station, LLC.

Description: Compliance filing: Reactive Service Rate Schedules Compliance Filing to be effective 3/27/2018.

Filed Date: 4/4/18.

Accession Number: 20180404-5141.

Comments Due: 5 p.m. ET 4/25/18.

Docket Numbers: ER18-578-001

Applicants: Yankee Street, LLC.

Description: Compliance filing: Reactive Service Rate Schedules Compliance Filing to be effective 3/27/2018.

Filed Date: 4/4/18.

Accession Number: 20180404-5142.

Comments Due: 5 p.m. ET 4/25/18.

Docket Numbers: ER18-1292-000.

Applicants: Southern California Edison Company.

Description: § 205(d) Rate Filing: LGIA—SCE and Desert Quartzite, LLC for Quartz 3 Solar Project to be effective 4/4/2018.

Filed Date: 4/3/18.

Accession Number: 20180403-5179.

Comments Due: 5 p.m. ET 4/24/18.

Docket Numbers: ER18-1293-000.

Applicants: Midcontinent Independent System Operator, Inc.

Description: § 205(d) Rate Filing: 2018-04-04_SA 3106 Dodge County Wind-SMMPA GIA (J441) to be effective 3/21/2018.

Filed Date: 4/4/18.

Accession Number: 20180404-5101.

Comments Due: 5 p.m. ET 4/25/18.

Docket Numbers: ER18-1294-000.

Applicants: Woomera Energy, LLC.

Description: Compliance filing: Market Based Rate Tariff to be effective 12/31/9998.

Filed Date: 4/4/18.

Accession Number: 20180404-5108.

Comments Due: 5 p.m. ET 4/25/18.

Docket Numbers: ER18-1295-000.

Applicants: PacifiCorp.

Description: § 205(d) Rate Filing: RMP & Heber Construct Agmt for Heber ? Midway Line to be effective 4/3/2017.

Filed Date: 4/4/18.

Accession Number: 20180404-5109.

Comments Due: 5 p.m. ET 4/25/18.

Docket Numbers: ER18-1296-000.

Applicants: Power 52 Inc.

Description: Compliance filing: Power52 Market Based Rate Tariff to be effective 4/17/2018.

Filed Date: 4/4/18.

Accession Number: 20180404-5116.

Comments Due: 5 p.m. ET 4/25/18.

Docket Numbers: ER18-1297-000.

Applicants: Southern California Edison Company.

Description: § 205(d) Rate Filing: LGIA Palmdale Energy, LLC & Notice of Cancellation SA No. 153 to be effective 6/4/2018.

Filed Date: 4/4/18.

Accession Number: 20180404-5118.

Comments Due: 5 p.m. ET 4/25/18.

Docket Numbers: ER18-1298-000.

Applicants: Duke Energy Florida, LLC.

Description: § 205(d) Rate Filing: DEF-SA No. 230 Shady Hills LGIA to be effective 4/5/2018.

Filed Date: 4/4/18.

Accession Number: 20180404-5133.

Comments Due: 5 p.m. ET 4/25/18.

Docket Numbers: ER18-1299-000.

Applicants: Westar Energy, Inc.

Description: Expedited Petition of Westar Energy, Inc. for Waiver of Tariff Provision.

Filed Date: 4/4/18.

Accession Number: 20180404-5144.

Comments Due: 5 p.m. ET 4/25/18.

Take notice that the Commission received the following electric securities filings:

Docket Numbers: ES18-26-000.

Applicants: Southern Indiana Gas and Electric Company.

Description: Application for authority to issue short term debt of Southern Indiana Gas and Electric Company, Inc.

Filed Date: 4/3/18.

Accession Number: 20180403-5198.

Comments Due: 5 p.m. ET 4/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2018.
Nathaniel J. Davis, Sr.,
Deputy Secretary.

[FR Doc. 2018-07280 Filed 4-9-18; 8:45 am]

BILLING CODE 6717-01-P